DEPARTMENT OF ENERGY

Federal Energy Regulatory Commission

Combined Notice of Filings #1

Take notice that the Commission received the following electric corporate filings:

Docket Numbers: EC13-104-000.

Applicants: Chisholm View Wind Project, LLC.

Description: Application for Authorization Under Section 203 of the Federal Power Act, Request for Expedited Consideration and Confidential Treatment of Chisholm View Wind Project, LLC.

Filed Date: 5/8/13.

Accession Number: 20130508-5016.

Comments Due: 5 p.m. ET 5/29/13.

Docket Numbers: EC13-105-000.

Applicants: Prairie Rose Wind, LLC, Prairie Rose Transmission, LLC.

Description: Joint Application for Authorization Under Section 203 of the Federal Power Act, Request for Expedited Consideration and Confidential Treatment of Prairie Rose Wind, LLC, et al.

Filed Date: 5/8/13.

Accession Number: 20130508-5018.

Comments Due: 5 p.m. ET 5/29/13.

Take notice that the Commission received the following exempt wholesale generator filings:

Docket Numbers: EG13-32-000.

Applicants: Arlington Valley Solar Energy II, LLC.

Description: Notice of Self-Certification of Exempt Wholesale Generator Status.

Filed Date: 5/6/13.

Accession Number: 20130506-5113.

Comments Due: 5 p.m. ET 5/28/13.

Take notice that the Commission received the following electric rate filings:

Docket Numbers: ER13-1258-001.

Applicants: Land O'Lakes, Inc.

Description: Inquiry Response to be effective 6/14/2013.

Filed Date: 5/8/13.

Accession Number: 20130508-5000.

Comments Due: 5 p.m. ET 5/29/13.

Docket Numbers: ER13-1429-000.

Applicants: PJM Interconnection, L.L.C.

Description: Revisions to the PJM OA Schedule 12 to remove Blast Electric, L.L.C. to be effective 12/31/9998.

Filed Date: 5/6/13.

Accession Number: 20130506-5085.

Comments Due: 5 p.m. ET 5/28/13.

Docket Numbers: ER13-1430-000.

Applicants: Arlington Valley Solar Energy II, LLC.

Description: Application for Market-Based Rate Authorization to be effective 5/7/2013.

Filed Date: 5/6/13.

Accession Number: 20130506-5090.

Comments Due: 5 p.m. ET 5/28/13.

Docket Numbers: ER13-1431-000.

Applicants: Northampton Generating Company, L.P.

Description: Reactive Power Tariff to be effective 6/1/2013.

Filed Date: 5/7/13.

Accession Number: 20130507-5057.

Comments Due: 5 p.m. ET 5/28/13.

Docket Numbers: ER13-1432-000.

Applicants: Duke Energy Carolinas, LLC.

Description: Concord PPA—RS 327 Revisions (2013) to be effective 7/2/2012.

Filed Date: 5/7/13.

Accession Number: 20130507-5058.

Comments Due: 5 p.m. ET 5/28/13.

Docket Numbers: ER13-1433-000.

Applicants: Duke Energy Carolinas, LLC.

Description: Kings Mountain PPA—RS 331 Revision (2013) to be effective 7/2/2012.

Filed Date: 5/7/13.

Accession Number: 20130507-5061.

Comments Due: 5 p.m. ET 5/28/13.

Docket Numbers: ER13-1434-000.

Applicants: MATL LLP.

Description: Cancel Previous Database to be effective 5/7/2013.

Filed Date: 5/7/13.

Accession Number: 20130507-5121.

Comments Due: 5 p.m. ET 5/28/13.

Docket Numbers: ER13-1435-000.

Applicants: Michigan Public Power Agency.

Description: Specification of Revenue Requirement for Reactive Supply Service to be effective 5/7/2013.

Filed Date: 5/7/13.

Accession Number: 20130507-5122.

Comments Due: 5 p.m. ET 5/14/13.

Docket Numbers: ER13-1436-000.

Applicants: American Municipal Power, Inc.

Description: Specification of Revenue Requirement for Reactive Supply Service to be effective 5/7/2013.

Filed Date: 5/7/13.

Accession Number: 20130507-5123.

Comments Due: 5 p.m. ET 5/14/13.

Docket Numbers: ER13-1437-000.

Applicants: Southern California Edison Company.

Description: SGIA and Distribution Service Agreement with Coram Energy, LLC to be effective 5/9/2013.

Filed Date: 5/8/13.

Accession Number: 20130508-5001.

Comments Due: 5 p.m. ET 5/29/13.

Take notice that the Commission received the following electric securities filings:

Docket Numbers: ES13-19-000.

Applicants: AEP Texas Central Company.

Description: Supplement to and including Amended/Restated Paragraph of Section 1.E and Revised Exhibits C, D and E to April 15, 2013 Application of AEP Texas Central Company.

Filed Date: 5/3/13.

Accession Number: 20130503-5022.

Comments Due: 5 p.m. ET 5/13/13.

Docket Numbers: ES13-23-000.

Applicants: New Hampshire Transmission, LLC.

Description: Application of New Hampshire Transmission, LLC for Authorization to Issue Long-Term Debt Securities under Section 204.

Filed Date: 5/7/13.

Accession Number: 20130507-5107.

Comments Due: 5 p.m. ET 5/28/13.

Take notice that the Commission received the following land acquisition reports:

Docket Numbers: LA13-1-000.

Applicants: Duke Energy Corporation.

Description: Quarterly Land Acquisition Report of Duke Energy Corporation.

Filed Date: 5/7/13.

Accession Number: 20130507-5056.

Comments Due: 5 p.m. ET 5/28/13.

Take notice that the Commission received the following qualifying facility filings:

Docket Numbers: QF13-411-000.

Applicants: The Smithfield Packing Company, Inc.

Description: Form 556—Notice of self-certification of qualifying cogeneration facility status of The Smithfield Packing Company Inc.

Filed Date: 5/8/13.

Accession Number: 20130508-5015.

Comments Due: None Applicable.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: May 8, 2013.
Nathaniel J. Davis, Sr.,
Deputy Secretary.

[FR Doc. 2013-11803 Filed 5-16-13; 8:45 am]

BILLING CODE 6717-01-P